DEPARTMENT OF COMMERCE

National Oceanic and Atmospheric Administration

50 CFR Part 622

[Docket No. 140501394-5279-02]

RIN 0648-XF758

Fisheries of the Caribbean, Gulf of Mexico, and South Atlantic; Snapper-Grouper Fishery of the South Atlantic; Re-Opening of the Commercial Sector for Blueline Tilefish

AGENCY: National Marine Fisheries Service (NMFS), National Oceanic and Atmospheric Administration (NOAA), Commerce.

ACTION: Temporary rule; re-opening.

SUMMARY: NMFS announces the re-opening of the commercial sector for blueline tilefish in the exclusive economic zone (EEZ) of the South Atlantic through this temporary rule. The most recent commercial landings data for blueline tilefish indicate the commercial annual catch limit (ACL) for the 2017 fishing year has not yet been reached. Therefore, NMFS re-opens the commercial sector for blueline tilefish in the South Atlantic EEZ for 8 days to allow the commercial ACL to be caught, while minimizing the risk of the commercial ACL being exceeded.

DATES: This rule is effective 12:01 a.m., local time, October 24, 2017 until 12:01 a.m., local time, November 1, 2017.

FOR FURTHER INFORMATION CONTACT: Mary Vara, NMFS Southeast Regional Office, telephone: 727-824-5305, email: mary.vara@noaa.gov.

SUPPLEMENTARY INFORMATION: The snapper-grouper fishery of the South Atlantic includes blueline tilefish and is managed under the Fishery Management Plan for the Snapper-Grouper Fishery of the South Atlantic Region (FMP). The FMP was prepared by the South Atlantic Fishery Management Council and is implemented by NMFS under the authority of the Magnuson-Stevens Fishery Conservation and Management Act (Magnuson-Stevens Act) by regulations at 50 CFR part 622.

As specified at 50 CFR 622.193(z)(1)(i), the blueline tilefish commercial ACL is 87,521 lb (39,699 kg), round weight.

NMFS is required to close the commercial sector for blueline tilefish when the commercial ACL specified at 50 CFR 622.193(z)(1)(i) is reached, or is projected to be reached, by filing a notification to that effect with the Office of the Federal Register. NMFS previously projected that the commercial ACL for South Atlantic blueline tilefish for the 2017 fishing year would be reached by July 18, 2017. Therefore, NMFS published a temporary rule to close the commercial sector for South Atlantic blueline tilefish effective on July 18, 2017, through the end of the 2017 fishing year (82 FR 31924; July 11, 2017). However, a recent landings update indicates that the commercial ACL for blueline tilefish was not met as of July 18, 2017.

In accordance with 50 CFR 622.8(c), NMFS temporarily re-opens the commercial sector for blueline tilefish on October 24, 2017. The commercial sector will remain open for 8 days to allow for the commercial ACL to be reached. The commercial sector will close 8 days later, at 12:01 a.m., local time, November 1, 2017, and remain closed until January 1, 2018, the start of the next fishing year. NMFS has determined that this re-opening will allow for an additional opportunity to commercially harvest blueline tilefish while minimizing the risk of exceeding the commercial ACL.

The operator of a vessel with a valid Federal commercial vessel permit for South Atlantic snapper-grouper having blueline tilefish onboard must have landed and bartered, traded, or sold such blueline tilefish prior to 12:01 a.m., local time, November 1, 2017. During the subsequent commercial closure, all sale or purchase of blueline tilefish is prohibited. The recreational sector for blueline tilefish in South Atlantic Federal waters is closed from January 1 through April 30, and from September 1 through December 31, each year, and the bag and possession limits for blueline tilefish in or from South Atlantic Federal waters are zero through December 31, 2017. Additionally, these bag and possession limits apply to the harvest of blueline tilefish in both state and Federal waters in the South Atlantic on board a vessel with a valid Federal commercial or charter vessel/headboat permit for South Atlantic snapper-grouper.

Classification

The Regional Administrator, NMFS Southeast Region, has determined this temporary rule is necessary for the conservation and management of blueline tilefish and the South Atlantic snapper-grouper fishery and is consistent with the Magnuson-Stevens Act and other applicable laws.

This action is taken under 50 CFR 622.8(c) and is exempt from review under Executive Order 12866.

These measures are exempt from the procedures of the Regulatory Flexibility Act because the temporary rule is issued without opportunity for prior notice and comment.

This action responds to the best scientific information available. The Assistant Administrator for NOAA Fisheries (AA) finds that the need to immediately implement this action to temporarily re-open the commercial sector for blueline tilefish constitutes good cause to waive the requirements to provide prior notice and opportunity for public comment pursuant to the authority set forth in 5 U.S.C. 553(b)(B), as such procedures are unnecessary and contrary to the public interest. Such procedures are unnecessary because the rule implementing the commercial ACL and AMs has been subject to notice and comment, and all that remains is to notify the public of the re-opening. Such procedures are contrary to the public interest because of the need to immediately implement this action to allow commercial fishers to harvest the commercial ACL of blueline tilefish from the EEZ, while minimizing the risk of exceeding the commercial ACL. Prior notice and opportunity for public comment would be contrary to the public interest because it would not allow for the re-opening of the commercial sector before the end of the fishing season.

For the aforementioned reasons, the AA also finds good cause to waive the 30-day delay in the effectiveness of this action under 5 U.S.C. 553(d)(3).

Authority: 16 U.S.C. 1801 et seq.

Dated: October 19, 2017.
Alan D. Risenhoover,
Director, Office of Sustainable Fisheries, National Marine Fisheries Service.

[FR Doc. 2017-23026 Filed 10-19-17; 4:15 pm]

BILLING CODE 3510-22-P